DEPARTMENT OF HOMELAND SECURITY

Coast Guard

33 CFR Part 117

[CGD08-04-011]

Drawbridge Operation Regulations; Ocean Springs, MS

AGENCY: Coast Guard, DHS.

ACTION: Notice of temporary deviation from regulations.

SUMMARY: The Commander, Eighth Coast Guard District, has issued a temporary deviation from the regulation governing the operation of the U.S. 90 Bascule Span Highway Bridge across Back Bay of Biloxi, mile 0.0 at Ocean Springs, Harrison County, Mississippi. This deviation allows the bridge to remain closed to navigation from 6 a.m. on Monday, March 8, 2004 through 6 p.m. on Friday, March 12, 2004. The deviation is necessary to align the speed reducer and to replace some of the old welded flooring plates with new steel channel sections on the drawbridge.

DATES: This deviation is effective from 6 a.m. on Monday, March 8, 2004 through 6 p.m. on Friday, March 12, 2004.

ADDRESSES: Materials referred to in this document are available for inspection or copying at the office of the Eighth Coast Guard District, Bridge Administration Branch, Hale Boggs Federal Building, room 1313, 500 Poydras Street, New Orleans, Louisiana 70130-3310 between 7 a.m. and 3 p.m., Monday through Friday, except Federal holidays. The telephone number is (504) 589-2965. The Bridge Administration Branch of the Eighth Coast Guard District maintains the public docket for this temporary deviation.

FOR FURTHER INFORMATION CONTACT: Phil Johnson, Bridge Administration Branch, telephone (504) 589-2965.

SUPPLEMENTARY INFORMATION: The Mississippi Department of Transportation has requested a temporary deviation in order to align the speed reducer and to replace some of the old welded flooring plates with new steel channel sections on the U.S. 90 Bascule Span Highway Bridge across Back Bay of Biloxi, mile 0.0 at Ocean Springs, Harrison County, Mississippi. The replacement of the old flooring plates and alignment of the speed reducer is necessary for the continued safe operation of the draw span of the bridge. This temporary deviation will allow the bridge to remain in the closed-to-navigation position continuously from 6 a.m. on Monday, March 8, 2004 through 6 p.m. on Friday, March 12, 2004.

Presently the bridge opens on signal except that from 6:30 a.m. to 7:05 a.m., 7:20 a.m. to 8:05 a.m., 4 p.m. to 4:45 p.m. and 4:55 p.m. to 5:30 p.m., Monday through Friday except holidays, the draw need not open for the passage of vessels.

The bascule span bridge has a vertical clearance of 14 feet above mean high water, elevation 1.75 feet Mean Sea Level in the closed-to-navigation position. Navigation at the site of the bridge consists mainly of commercial fishing vessels, tugs with barges in tow and various sizes and types of recreational pleasure craft including sailing vessels. Bridge tender logs show that in February, 2003 the bridge was opened 120 times to pass navigation, an average of 4 times per day. In March, 2003 it was opened 164 times to pass navigation, an average of 5.4 times per day. The bridge will not be able to open for emergencies during the closure period. Alternate routes are not available.

In accordance with 33 CFR 117.35(c), this work will be performed with all due speed in order to return the bridge to normal operation as soon as possible. This deviation from the operating regulations is authorized under 33 CFR 117.35.

Dated: February 23, 2004.
Bradford W. Black,
Captain, U.S. Coast Guard, Acting Bridge Administrator.

[FR Doc. 04-4777 Filed 3-3-04; 8:45 am]

BILLING CODE 4910-15-P